NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Comments regarding this information collection are best assured of having their full effect if received by July 14, 2025.

ADDRESSES: The full submission may be found at: https://www.reginfo.gov/public/do/PRAMain. Find this particular information collection by selecting “Currently under 30-day Review—Open for Public Comments” or by using the search function.

FOR FURTHER INFORMATION CONTACT: Office of Information and Regulatory Affairs of OMB, Attention: Desk Officer for National Science Foundation, 725-17th Street NW, Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: Grantee Reporting Requirements for the Research Experiences for Undergraduates (REU) Program.

OMB Approval Number: 3145-0224.

Overview of Information Collection

NSF's Research Experiences for Undergraduates (REU) program funds REU Site grants and REU Supplements to organizations to provide authentic research experiences and related training for postsecondary students in STEM fields.

All NSF Principal Investigators in all programs are required to submit annual and final project reports through the NSF Project Reports System in Research.gov. The REU Program Module is a component of the NSF Project Reports System that is designed to gather basic information about the pool of student applicants and participants in REU Site and REU Supplement projects. The information allows NSF to assess the demand and allocate resources for REU student positions within each discipline, to analyze the types of academic institutions and the educational levels represented by the participants, and to identify the participants for inclusion in periodic program evaluations.

NSF is committed to providing stakeholders with information regarding the expenditure of taxpayer funds on its investments in human capital, including activities such as REU Sites and REU Supplements. If NSF could not collect information about the students who participate in undergraduate research experiences, NSF would have no other means to consistently document the number and diversity of the participants or to identify the participants for inclusion in efforts that gauge the quality of programmatic activities and the long-term effects of the activities on the students. Without the REU Program Module, NSF also would not have information about the competitiveness of the REU opportunities, which informs the management of the program's budget.

Consultation With Other Agencies and the Public

This information collection is specific to a subset of NSF grantees. NSF has not consulted with other agencies but has gathered information from its grantee community through attendance at PI conferences. A request for public comments will be solicited through announcement of data collection in the Federal Register.

Background

All NSF Principal Investigators are required to use the project reporting functionality in Research.gov to report on progress, accomplishments, participants, and activities annually and at the conclusion of their project. Information from annual and final reports provides yearly updates on project inputs, activities, and outcomes for use by NSF program officers in monitoring projects and for agency reporting purposes.

If project participants include undergraduate students supported by a Research Experiences for Undergraduates (REU) Sites grant or by an REU Supplement, then the Principal Investigator is required to complete the REU Program Module in addition to the questions in NSF's standard report template.

Respondents: Individuals (Principal Investigators).

Number of Principal Investigator Respondents: 3,900 annually.

Burden on the Public: 650 total hours.

Dated: June 6, 2025.
Suzanne H. Plimpton,
Reports Clearance Officer, National Science Foundation.

[FR Doc. 2025-10657 Filed 6-11-25; 8:45 am]

BILLING CODE 7555-01-P